POSTAL SERVICE

Privacy Act of 1974; System of Records

AGENCY: Postal Service™.

ACTION: Notice of a modified system of records; response to comments.

SUMMARY: The United States Postal Service® (Postal Service) is responding to public comments regarding revisions to a Customer Privacy Act Systems of Records (SOR). These revisions were made to support the Targeted Offers Powered by Informed Address (IA) service initiative, within the Informed Delivery platform. There will be no changes to the system of records or the implementation date of March 11, 2019 in light of the public comments.

DATES: The revisions to USPS SOR 820.300 Informed Delivery were originally scheduled to be effective on March 11, 2019, without further notice. After review and evaluation of comments received, the Postal Service has found that no substantive changes to the system of records are required, and that the effective date for the implementation of the proposed revisions should proceed as scheduled.

FOR FURTHER INFORMATION CONTACT: Janine Castorina, Chief Privacy and Records Management Officer, Privacy and Records Office, United States Postal Service, 475 L'Enfant Plaza SW, Room 1P830, Washington, DC 20260-1101, telephone 202-268-3069, or privacy@usps.gov.

SUPPLEMENTARY INFORMATION: On February 7, 2019, the Postal Service published notice of its intent to modify an existing system of records, USPS 820.300 Informed Delivery to support the Targeted Offers application. Targeted Offers Powered by Informed Address (“Targeted Offers”) is an application that will enable consumers to securely share their preferences related to marketing content with mailers, and mailers to target and prospect consumers based on this data. Targeted Offers will be incorporated into the Informed Delivery platform, allowing the Postal Service to capitalize on Informed Delivery's success and existing user base. As a new feature of Informed Delivery, Targeted Offers will encourage new user adoption and provide additional benefits for current users.

The Postal Service provides the following responses to the comments received pursuant to its Federal Register notice regarding Targeted Offers Powered by Informed Address service:

(1) Comment: The comments received question the Postal Service's perceived expansion of its collection of personally identifiable information.

Answer: This system of records update does not expand any current collection policies, therefore the Postal Service views these comments as directed at its Informed Delivery System as a whole, and not the particular modifications to the existing system of records for which notice was provided. As such, no response is required to said comments.

(2) Comment: Is it the intent of the Postal Service to limited Informed Delivery and/or Informed Address to letters only?

Answer: The Postal Service intends to offer this service to consumers for all physical mail delivered via Informed Delivery.

Brittany M. Johnson,
Attorney, Federal Compliance.

[FR Doc. 2019-10457 Filed 5-17-19; 8:45 am]

BILLING CODE 7710-12-P